DEPARTMENT OF AGRICULTURE

Forest Service

Klamath National Forest, CA, Big Pony Project

AGENCY: Forest Service, USDA.

ACTION: Notice of intent to prepare an Environmental Impact Statement.

SUMMARY: The Klamath National Forest (KNF) will prepare an Environmental Impact Statement (EIS) to document and publicly disclose the environmental effects of implementing a vegetation and fuels management project designed to reduce fire hazard to research plots and improve forest health.

DATES: Comments concerning the scope of the analysis must be received within 45 days from date of publication in the Federal Register. The draft EIS is expected in March, 2010 and the final EIS is expected in August, 2010.

ADDRESSES: Send written comments to Jorge Enriquez, Goosenest Ranger District, 37805 Highway 97, Macdoel, CA 96058. Comments may also be sent via e-mail to comments-pacificsouthwest-klamath-goosenest@fs.fed.us, or via facsimile to (530) 398-398-5749 A public scoping meeting to discuss project details and identify any potential significant issues will be held on March 18th, 2009 at the Goosenest Ranger District, 37805 Highway 97, Macdoel, CA 96058.

Comments received in response to this solicitation, including names and addresses of those who comment, will become part of the public record for this proposed action. Comments submitted anonymously will be accepted and considered; however, anonymous comments will not provide the respondent with standing to appeal the subsequent decision.

FOR FURTHER INFORMATION CONTACT: Jorge Enriquez, Goosenest Ranger District at (530) 398-5784 or jenriquez@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose for the proposed project is to reduce the potential fire impacts to permanent research plots, and within and adjacent to wildland urban interface (WUI) near Tennant, California. Intensive logging in the early 1900s and subsequent fire suppression have increased susceptibility to stand replacing insect, disease, and fire events. The Big Pony Project is designed to reduce forest susceptibility to stand replacing wildfire and increase stand resiliency to insect, disease and fire damage while promoting the development of large-pine dominated forests.

The proposed Big Pony Project is located within the Goosenest Ranger District southeast of Tennant, California. The legal locations are Sections 24 and 25 in T43NR1W; and Sections 2, 3, 9-11, 14-18, 19-22, 27-30, and 32 in T43NR1E, Mt. Diablo Meridian, Siskiyou County, California. The proposed project area encompasses approximately 6,673 acres between 4,800 to 6,100 feet elevation. The Big Pony Project is consistent with management direction provided in the Northwest Forest Plan, Land and Resource Management Plan for the KNF, National Fire Plan, and the Endangered Species Act.

The Pacific Southwest Research Station established long-term research plots in 2000 to study accelerating the development of late-successional forest components. Forests surrounding the research plots are overstocked with white fir and ladder fuels that create conditions conducive to stand replacing wildfire. There is a need to enhance protection from catastrophic wildfire to minimize risk to research plots, private property, and to avoid fire suppression difficulties within and adjacent to the WUI.

Proposed Action

The proposed project area encompasses approximately 6,673 acres between 4,800 to 6,100 feet elevation. The proposed action is to perform thinning and fuels treatment on 3,180 acres. The Proposed Action consists of the five following treatments which will be applied based on existing tree species present, fuels conditions, forest health, and wildlife concerns. In all treatments, the retention of old-growth legacy components (large diameter trees, large snags, and downed logs) will be emphasized.

Roads needed for the project will be reassessed prior to and during activities to determine if maintenance is needed and may require light maintenance to meet project requirements, generally consisting of spot rocking, grading, and re-establishing drainage structures. There will be no new roads constructed or added to the Forest road system. Approximately 0.5 miles of temporary road will be constructed for project implementation and will be constructed to design standards that minimize ground disturbance and protect resources. This temporary road will be decommissioned following project completion.

1. Fuel Management Zone (FMZ) Treatments

Three hundred foot wide fuels reduction treatments will be applied on 708 acres, in a linear fashion centered along 13 miles of roads. The FMZs are designed to reduce fire hazard, improve fire suppression effectiveness, and improve fire fighter safety in the event of a wildfire. The FMZs will improve fire fighting effectiveness and safety by providing potential anchor points for fire fighters during initial attack. Trees less than 10 inches in diameter at breast height (dbh) will be felled to reduce ladder fuels and stand density. Large down woody material greater than 16 inches in diameter and standing snags greater than 16 inches dbh will be left intact in accordance with district guidelines. Post-treatment FMZ evaluations will determine whether additional mowing is required to achieve the proposed action. FMZ treatments will be expanded beyond the 300 foot buffer in one 21-acre area at the southeast end of the project area to address heavy fuel accumulations.

2. Fuels Reduction With Emphasis on White Fir Removal

Thinning will be applied to 2,021 acres of overly dense conifer stands favoring ponderosa pine, sugar pine, and incense cedar. White fir and juniper will be removed to reduce stand basal area (BA) to 60-120 square feet. Large white fir (greater than 40 inches dbh) will be left for snag recruitment for wildlife. Retention of old-growth legacy components (large diameter trees, large snags and downed logs) will be emphasized. Thinning would provide a buffer zone around existing sugar pine to favor their development. Treatment areas will be evaluated post-thinning and if appropriate, they will receive an underburn or mow treatment. The following conservation measures will be implemented around known goshawk activity centers. (1) Within one mile of activity centers 15% of stands will not be treated and, though generally targeted for removal, a limited amount of pole-sized and larger white fir will be retained. (2) Within one-half mile of activity centers only trees less than 10 inches dbh will be thinned and 16-25 foot spacing will be maintained; except under the dripline of greater than 30-inch dbh ponderosa or sugar pine, where all trees will be thinned.

3. Fuels Reduction in Lodgepole Pine

Overly dense lodgepole pine stands impacted by mountain pine beetles will be thinned on 76 acres. Ponderosa pine will be retained along with a small component of white and red fir for diversity and snag recruitment. All mature lodgepole pine will be removed. All trees will be removed within 30 feet of dominant- and co-dominant ponderosa pine with a retention BA of 80-100 square feet. Trees up to 10 inches dbh will be removed except where there are not larger sized trees to maintain 16 to 25-foot spacing. Treatment areas will be evaluated post-thinning and if appropriate, they will receive an underburn treatment.

4. Plantation Thinning

Thinning will be applied to 346 acres of overly dense conifer plantations. Small diameter trees will be thinned to a spacing of 12 to 30 feet to create a mosaic pattern typical in uneven-aged stands. The variability in stand spacing will account for site specific conditions including species composition, slope and aspect, and the size of existing trees. The majority of slash (75%) will be piled and burned and the remaining 25% will be left intact for wildlife diversity objectives.

5. Underburn Only

Underburning will occur on 29 acres to reduce density of shrubs and white fir saplings.

Lead and Cooperating Agencies

The Forest Service is the lead agency.

Responsible Official

Klamath National Forest Supervisor, Patricia A. Grantham, 1312 Fairlane Road, Yreka, California 96097.

Nature of Decision To Be Made

The responsible official for this proposal is the forest supervisor. Based on the analysis in the final EIS, the responsible official will make the following decisions and document them in a record of decision: (1) Whether to treat stands within the project area as proposed, or in what manner; and (2) What project design features should be applied.

Scoping Process

This notice of intent initiates the scoping process, which guides the development of the EIS. A public scoping meeting to discuss project details and identify any potential significant issues will be held on March 18th, 2009 at 7 p.m. at the Goosenest Ranger District, 37805 Hwy 97, Macdoel, CA 96058. The KNF is particularly interested in hearing about any potentially significant issues, points of discussion, dispute, or debate about the effects of the proposed action. It is important that reviewers provide their comments at such times and in such manner that they are useful to the agency's preparation of the EIS.

Comment Requested

This notice of intent initiates the scoping process which guides the development of the environmental impact statement. Your participation at this stage of the project is essential for the Interdisciplinary (ID) Team to develop effective, issue-driven alternatives and mitigations, as needed, to the proposed action.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review. Written comments can be submitted via fax (530) 398-5749 or surface mail to: Jorge Enriquez, Goosenest Ranger District, 37805 Hwy 97, Macdoel, CA 96058. You can also comment electronically in a format such as an e-mail message, plain text (.txt), rich text format (.rtf), or Word (.doc) to comments-pacificsouthwest-klamath-goosenest@fs.fed.us . Please call Jorge Enriquez at (530) 398-5784 or visit the Klamath National Forest Web page at http://www.fs.fed.us/r5/klamath/projects/projects/index.shtml for additional information regarding the proposed action. Individuals who use telecommunication devices for the deaf (TDD) may call the Federal Information Relay Service (FIRS) at 1-800-877-8339 between 8 a.m. and 8 p.m., Eastern Time, Monday through Friday. A field trip with interested participants will be arranged.

A Notice of Intent (NOI) to prepare an environmental impact statement will be published in the Federal Register. We would appreciate receiving your comments within 45 days of publication. Comments received, including the names and addresses of those who comment, will be considered part of the public record on this proposal and will be available for public inspection.

(Authority: 40 CFR 1501.7 and 1508.22; Forest Service Handbook 1909.15, Section 21).

Thank you for your interest in the proposed project and in the management of our National Forests.

Dated: February 12, 2009.
Patricia A. Grantham,
Forest Supervisor.

[FR Doc. E9-3612 Filed 2-19-09; 8:45 am]

BILLING CODE 3410-11-P